OFFICE OF MANAGEMENT AND BUDGET

Calendar Year (CY) 2015 Cost of Outpatient Medical, Dental, and Cosmetic Surgery Services Furnished by Department of Defense Medical Treatment Facilities; Certain Rates Regarding Recovery From Tortiously Liable Third Persons

AGENCY: Office of Management and Budget, Executive Office of the President.

ACTION: Notice.

SUMMARY: By virtue of the authority vested in the President by section 2(a) of Public Law 87-603 (76 Stat. 593; 42 U.S.C. 2652), and delegated to the Director of the Office of Management and Budget (OMB) by the President through Executive Order No. 11541 of July 1, 1970, the rates referenced below are hereby established. These rates are for use in connection with the recovery from tortiously liable third persons for the cost of outpatient medical, dental and cosmetic surgery services furnished by military treatment facilities through the Department of Defense. They are the same rates as the outpatient medical, dental and cosmetic surgery services reimbursement rates that were set on July 1, 2015 for billing medical insurers, but require a different approval authority for the purpose of billing for tort liability. The rates were established in accordance with the requirements of OMB Circular A-25, requiring reimbursement of the full cost of all services provided. The CY 2015 outpatient medical, dental and cosmetic surgery rates referenced are effective upon publication of this notice in the Federal Register and will remain in effect until further notice. Previously published inpatient rates remain in effect until further notice. Pharmacy rates are updated periodically. A full disclosure of the rates is posted at Health.mil Web site in the Defense Health Agency Uniform Business Office section (http://health.mil/Military-Health-Topics/Business-Support/Uniform-Business-Office).

Shaun Donovan,
Director, Office Management and Budget.

[FR Doc. 2016-04856 Filed 3-3-16; 8:45 am]

BILLING CODE P